ENVIRONMENTAL PROTECTION AGENCY

[FRL-7143-6]

Agency Information Collection Activities: Proposed Collection; Comment Request; Acid Rain Program

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Acid Rain Program ICR, EPA ICR Number: 1633.13, OMB Control Number: 2060-0258, Expiration Date: September 30, 2002. Before submitting the ICR to OMB for review and approval, EPA is soliciting comments on specific aspects of the proposed information collection as described below.

DATES: Comments must be submitted on or before April 15, 2002.

ADDRESSES: The current ICR is available on the internet at www.epa.gov/airmarkets/AcidRainICR.pdf.

FOR FURTHER INFORMATION CONTACT: Contact Kenon Smith at (202-564-9164) or (smith.kenon@epa.gov).

SUPPLEMENTARY INFORMATION: Affected entities: Entities potentially affected by this action are those which participate in the Acid Rain Program.

Title: Acid Rain Program ICR; (OMB Control No. 2060-0258; EPA ICR No. 1633.13) expiring 9/30/2002.

Abstract: The Acid Rain Program was established under Title IV of the 1990 Clean Air Act Amendments. The program calls for major reductions of the pollutants that cause acid rain while establishing a new approach to environmental management. This information collection is necessary to implement the Acid Rain Program. It includes burden hours associated with developing and modifying permits, transferring allowances, monitoring emissions, participating in the annual auctions, completing annual compliance certifications, participating in the Opt-in program, and complying with Nox permitting requirements. Most of this information collection is mandatory under 40 CFR parts 72-78. Some parts of it are voluntary or to obtain a benefit, such as participation in the annual auctions under 40 CFR part 73, subpart E. An agency may not conduct or sponsor, and a person is not required to respond to, a collection of information unless it displays a currently valid OMB control number. The OMB control numbers for EPA's regulations are listed in 40 CFR part 9 and 48 CFR chapter 15. The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 132 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 850.

Estimated Number of Respondents: 850.

Frequency of Response: Varies by task.

Estimated Total Annual Hour Burden: 1,330,327 hours.

Estimated Total Annualized Capital and Start-up Cost: $92,058,000.

Estimated Total Annualized Operation and Maintenance Cost: $43,574,000.

Dated: February 4, 2002.
Janice Wagner,
Chief, Market Operations Branch.

[FR Doc. 02-3547 Filed 2-12-02; 8:45 am]

BILLING CODE 6560-50-P